DEPARTMENT OF DEFENSE

Department of the Army

Intent To Grant an Exclusive License for U.S. Government-Owned Invention

AGENCY: Department of the Army, DoD.

ACTION: Notice.

SUMMARY: In accordance with applicable laws and regulations, announcement is made of the intent to grant an exclusive within a field of use, royalty-bearing, revocable biological materials license.

ADDRESSES: Commander, U.S. Army Medical Research and Materiel Command, ATTN: Director, Office of Research and Technology Applications, 1520 Freedman Drive, Suite 227, Fort Detrick, MD 21702-5012.

FOR FURTHER INFORMATION CONTACT: Mr. Paul Michaels, Office of Research & Technology Applications, (301) 619-4145.

SUPPLEMENTARY INFORMATION: In accordance with 35 U.S.C. 209(e) and 37 CFR 404.7(a)(1)(i), announcement is made of the intent to grant an exclusive within a field of use, royalty-bearing, revocable biological materials license to topical paromomycin formulation for the treatment of Leishmaniasis, to Appili Therapeutics, Inc., having its principal place of business at #21-1344 Summer Street, Halifax, NS B3H0A8, Canada.

Anyone wishing to object to grant of this license can file written objections along with supporting evidence, if any, within 15 days from the date of this publication. Written objections are to be filed with the Director, Office of Research and Technology Applications (see ADDRESSES).

Brenda S. Bowen,
Army Federal Register Liaison Officer.

[FR Doc. 2019-07294 Filed 4-11-19; 8:45 am]

BILLING CODE 5001-03-P